DEPARTMENT OF ENERGY

Federal Energy Regulatory Commission

Notice of Effectiveness of Exempt Wholesale Generator Status

Green Mountain Storage, LLC | EG15-121-000;
Meyersdale Storage, LLC | EG15-122-000;
Moxie Freedom LLC | EG15-123-000;
Odell Wind Farm, LLC | EG15-124-000;
Colbeck's Corner, LLC | EG15-125-000;
Mesquite Solar 2, LLC | EG15-126-000;
Mesquite Solar 3, LLC | EG15-127-000;
Land of the Sky MT, LLC | EG15-128-000;
Eden Solar, LLC | EG15-129-000;
Saddleback Ridge Wind, LLC | EG15-130-000;
Desert Stateline LLC | EG15-131-000;
CED Alamo 5, LLC | EG15-132-000;
Wake Wind Energy LLC | EG15-133-000]

Take notice that during the month of November 2015, the status of the above-captioned entities as Exempt Wholesale Generators became effective by operation of the Commission's regulations. 18 CFR 366.7(a).

Dated: December 23, 2015.
Nathaniel J. Davis, Sr.,
Deputy Secretary.

[FR Doc. 2015-32830 Filed 12-29-15; 8:45 am]

BILLING CODE 6717-01-P